DEPARTMENT OF TRANSPORTATION

Federal Motor Carrier Safety Administration

[Docket No. FMCSA-2025-0129]

Agency Information Collection Activities; Renewal of an Approved Information Collection: Motor Carrier Identification Report

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew an ICR titled, “Motor Carrier Identification Report,” which is used to identify FMCSA regulated entities, help prioritize the agency's activities, aid in assessing the safety outcomes of those activities, and for statistical purposes. This ICR is necessary to ensure regulated entities are registered with the DOT.

DATES: Comments on this notice must be received on or before August 18, 2025.

ADDRESSES: You may submit comments identified by Docket Number FMCSA-2025-0129 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC, 20590-0001 between 9 a.m. and 5 p.m. ET, Monday through Friday, except Federal holidays. To be sure someone is there to help you, please call (202) 366-9317 or (202) 366-9826 before visiting Dockets Operations.

• Fax: (202) 493-2251.

To avoid duplication, please use only one of these four methods. See the “Public Participation and Request for Comments” portion of the SUPPLEMENTARY INFORMATION section for instructions on submitting comments.

FOR FURTHER INFORMATION CONTACT: Mr. Jeffrey Secrist, Office of Registration, Chief, Registration Division, DOT, FMCSA, 1200 New Jersey Avenue SE, West Building 6th Floor, Washington, DC 20590-0001; (202) 385-2367; jeff.secrist@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2025-0129), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0129/document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 5 U.S.C. 553(c), DOT solicits comments from the public to better inform its regulatory process. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

Title 49, United States Code (U.S.C.) section 504(b)(2) provides the Secretary of Transportation (Secretary) with authority to require carriers, lessors, associations, or classes of these entities to file annual, periodic, and special reports containing answers to questions asked by the Secretary. The Secretary may also prescribe the form of records required to be prepared or compiled and the time period during which records must be preserved (See 49 U.S.C. 504(b)(1) and (d)). FMCSA will use this data to administer its safety programs using a database of entities that are subject to its regulations. This database necessitates that these entities notify FMCSA of their existence. For example, under 49 CFR 390.19(a), FMCSA requires all motor carriers beginning operations to file Form MCS-150, “Motor Carrier Identification Report,” Form MCS-150B titled, “Combined Motor Carrier Identification Report and HM Permit Applications,” or Form MCS-150C titled, “Intermodal Equipment Provider Identification Report.” This report is filed by all motor carriers conducting interstate operations, intrastate operations transporting hazardous materials (HM), or international commerce before beginning operations. It asks the respondent to provide the name of the business entity that owns and controls the motor carrier operation; address and telephone of principal place of business; assigned identification number(s), type of operation, types of cargo usually transported; number of vehicles owned, term leased and trip leased; driver information; and certification statement signed by an individual authorized to sign documents on behalf of the business entity. Existing applicants will use Form MCS-150, MCS-150B, or MCS-150C to update their information in the Motor Carrier Management Information System. Applicants filing for the first time will be required to file online. Form MCS-150, MCS-150B will be used for Mexico-domiciled carriers that seek authority to operate beyond the United States municipalities on the United States-Mexico border and their commercial zones, or MCS-150C will be used by IEPs beginning operations that interchange intermodal equipment with a motor carrier or have contractual responsibility for the maintenance of intermodal equipment. The information collected from the respondents is readily available to the public. This revised ICR captures the burden of continued use of Form MCS-150, MCS-150B for motor carriers updating their registration information and for the registration of Mexico-domiciled carriers, or MCS-150C for IEPs.

Title: Motor Carrier Identification Report.

OMB Control Number: 2126-0013.

Type of Request: Renewal of a currently approved information collection.

Respondents: Motor carriers, freight forwarders, intermodal equipment providers, brokers, motor carriers with HM safety permit, cargo tank facilities and Mexican motor carriers.

Estimated Number of Respondents: 572,983 [567,351 for IC-1 + 1,922 for IC-2 + 3,709 for IC-3].

Estimated Time per Response: IC-1: 20 minutes for new filings and 7.5 minutes for biennial updates and changes to complete Form MCS-150. IC-2: 26 minutes for new filings and 5 minutes for biennial updates and changes to complete Form MCS-150B. IC-3: 20 minutes for new filings and 7.5 minutes for biennial updates and changes to complete Form MCS-150C.

Expiration Date: October 31, 2025.

Frequency of Response: On occasion and biennially.

Estimated Total Annual Burden: 160,169 hours [158,437 hours for IC-1 + 497 hours for IC-2 + 1,235 hours for IC-3].

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Kenneth Riddle,
Acting Associate Administrator, Office of Research and Registration.

[FR Doc. 2025-11169 Filed 6-16-25; 8:45 am]

BILLING CODE 4910-EX-P